DEPARTMENT OF COMMERCE

United States Patent and Trademark Office

Pro Bono Survey

AGENCY: United States Patent and Trademark Office, Department of Commerce.

ACTION: Proposed collection; comment request.

SUMMARY: The United States Patent and Trademark Office (USPTO), as part of its continuing effort to reduce paperwork and respondent burden, invites the general public and other Federal agencies to comment on the proposed information collection as required by the Paperwork Reduction Act of 1995, Public Law 104-13 (44 U.S.C. 3506(c)(2)(A)).

DATES: Written comments must be submitted on or before July 13, 2015.

ADDRESSES: You may submit comments by any of the following methods:

• Email: InformationCollection@uspto.gov. Include “0651-Pro Bono Survey comment” in the subject line of the message.

• Federal Rulemaking Portal: http://www.regulations.gov.

• Mail: Marcie Lovett, Records Management Division Director, Office of the Chief Information Officer, United States Patent and Trademark Office, P.O. Box 1450, Alexandria, VA 22313-1450.

FOR FURTHER INFORMATION CONTACT: Requests for additional information should be directed to Jennifer McDowell, Attorney, Office of General Law, United States Patent and Trademark Office, P.O. Box 1450, Alexandria, VA 22313-1450; by telephone at 571-272-7013; or by email to Jennifer.Mcdowell@uspto.gov with “0651-Pro Bono Survey comment” in the subject line. Additional information about this collection is also available at http://www.reginfo.gov under “Information Collection Review.”

SUPPLEMENTARY INFORMATION:

I. Abstract

The Leahy-Smith America Invents Act (AIA), Public Law 112-29 § 32 (2011) directs the USPTO to work with and support intellectual property law associations across the country in the establishment of pro bono programs designed to assist financially under-resourced independent inventors and small businesses. In February 2014, President Obama issued an Executive Action calling on the USPTO to expand the existing patent pro bono programs to all 50 states in the country. In support of this Executive Action, the USPTO—in collaboration with various non-profit organizations—has established a series of autonomous regional hubs that act as matchmakers to help connect low-income inventors with volunteer patent attorneys across the United States. The regional hubs comprise law school IP clinics, bar associations, innovation/entrepreneurial organizations, and arts-focused lawyer referral services that are strategically located to provide access to patent pro bono services across all fifty states. This information will help the USPTO determine which regional hubs are operating efficiently and which programs need additional support.

This information collection will ascertain the effectiveness of each individual regional hub with respect to their matchmaking efforts. The USPTO has worked with the Pro Bono Advisory Council (PBAC) to determine what information is necessary to ascertain the effectiveness of each regional pro bono hub's matchmaking operations. PBAC is a well-established group of patent practitioners and patent pro bono regional hub administrators who have committed to provide support and guidance to patent pro bono programs across the country. PBAC is responsible for the collection of this information, which is collected on a quarterly basis. The information, at its highest level, will allow PBAC and the USPTO to ascertain whether the regional hubs are matching qualified low income inventors with volunteer patent attorneys. It will also help establish the total economic benefit derived by low-income inventors in the form of donated legal services.

II. Method of Collection

This survey will be conducted electronically through a web form created to support this survey.

III. Data

OMB Number: 0651—New.

IC Instruments and Forms: The individual instrument in this collection, as well as its associated form, is listed in the table below.

Type of Review: New.

Affected Public: Not-for-profit institutions.

Estimated Number of Respondents: An estimated 20 respondents will provide quarterly responses, for a total of 80 responses per year.

Estimated Time per Response: The USPTO estimates that it will take two hours to complete the PBAC Administrator Survey, including time needed to gather the necessary information, enter it into the information collection instrument, and submit it.

Estimated Total Annual Respondent Burden Hours: 160 hours.

Estimated Total Annual Respondent (Hourly) Cost Burden: $8,000.00. The USPTO expects that regional program administrators will complete these applications. The professional hourly rate for a regional program administrator is $50.00. Using this hourly rate, the USPTO estimates that the total respondent cost burden for this collection is $8,000.00 per year.

IC No. | Information collection instrument | Estimated time for response (minutes) | Estimated annual responses | Estimated annual burden hours | Rate ($/hr)
|  | (a) | (b) | (a) × (b)/60 = (c)
1 | Regional Program Administrator Survey | 120 | 80 | 160 | $50.00
Total |  |  | 80 | 160 |

Estimated Total Annual (Non-hour) Respondent Cost Burden: $0.00. There are no capital startup, maintenance, or operating fees associated with this collection, nor are there postage costs, filing fees, or processing fees.

IV. Request for Comments

Comments are invited on:

(a) Whether the proposed collection of information is necessary for the proper performance of the functions of the agency, including whether the information shall have practical utility;

(b) the accuracy of the agency's estimate of the burden (including hours and cost) of the proposed collection of information;

(c) ways to enhance the quality, utility, and clarity of the information to be collected; and

(d) ways to minimize the burden of the collection of information on respondents, e.g., the use of automated collection techniques or other forms of information technology.

Comments submitted in response to this notice will be summarized or included in the request for OMB approval of this information collection; they also will become a matter of public record.

Dated: May 4, 2015.
Marcie Lovett,
Records Management Divison Director, USPTO, Office of the Chief Information Officer.

[FR Doc. 2015-11419 Filed 5-11-15; 8:45 am]

BILLING CODE 3510-16-P